SMALL BUSINESS ADMINISTRATION

[Disaster Declaration #18067 and #18068; MISSISSIPPI Disaster Number MS-00154]

Presidential Declaration of a Major Disaster for the State of MISSISSIPPI

AGENCY: Small Business Administration.

ACTION: Notice.

SUMMARY: This is a Notice of the Presidential declaration of a major disaster for the State of Mississippi (FEMA-4727-DR), dated 08/12/2023.

Incident: Severe Storms, Straight-line Winds, and Tornadoes.

Incident Period: 06/14/2023 through 06/19/2023.

DATES: Issued on 08/12/2023.

Physical Loan Application Deadline Date: 10/11/2023.

Economic Injury (EIDL) Loan Application Deadline Date: 05/13/2024.

ADDRESSES: Submit completed loan applications to: U.S. Small Business Administration, Processing and Disbursement Center, 14925 Kingsport Road, Fort Worth, TX 76155.

FOR FURTHER INFORMATION CONTACT: A. Escobar, Office of Disaster Recovery & Resilience, U.S. Small Business Administration, 409 3rd Street SW, Suite 6050, Washington, DC 20416, (202) 205-6734.

SUPPLEMENTARY INFORMATION: Notice is hereby given that as a result of the President's major disaster declaration on 08/12/2023, applications for disaster loans may be filed at the address listed above or other locally announced locations.

The following areas have been determined to be adversely affected by the disaster:

Primary Counties (Physical Damage and Economic Injury Loans): Jackson, Jasper.

Contiguous Counties (Economic Injury Loans Only):

Mississippi: Clarke, George, Harrison, Jones, Lauderdale, Newton, Scott, Smith, Stone, Wayne.

Alabama: Mobile.

The Interest Rates are:

| Percent
For Physical Damage:
Homeowners with Credit Available Elsewhere | 5.000
Homeowners without Credit Available Elsewhere | 2.500
Businesses with Credit Available Elsewhere | 8.000
Businesses without Credit Available Elsewhere | 4.000
Non-Profit Organizations with Credit Available Elsewhere | 2.375
Non-Profit Organizations without Credit Available Elsewhere | 2.375
For Economic Injury:
Businesses & Small Agricultural Cooperatives without Credit Available Elsewhere | 4.000
Non-Profit Organizations without Credit Available Elsewhere | 2.375

The number assigned to this disaster for physical damage is 18067 C and for economic injury is 18068 0.

(Catalog of Federal Domestic Assistance Number 59008)

Francisco Sánchez, Jr.,
Associate Administrator, Office of Disaster Recovery & Resilience.

[FR Doc. 2023-17933 Filed 8-18-23; 8:45 am]

BILLING CODE 8026-09-P